DEPARTMENT OF THE INTERIOR

Bureau of Reclamation

Animas-La Plata Project, Colorado and New Mexico

AGENCY: Bureau of Reclamation, Interior.

ACTION: Notice of availability of the Final Supplemental Environmental Impact Statement for the Animas-La Plata Project.

INT-FES-00-23.

SUMMARY: Pursuant to the National Environmental Policy Act (NEPA) of 1969 (as amended), the Department of the Interior, Bureau of Reclamation (Reclamation), has prepared a Final Supplemental Environmental Impact Statement (FSEIS) for the Animas-La Plata Project (ALP). The proposed federal action is to implement the Colorado Ute Indian Water Rights Settlement Act of 1988 (Pub. L. 100-585) (Settlement Act) by providing the Colorado Ute Tribes an assured long-term water supply and water acquisition fund in order to satisfy the Tribes' senior water rights claims as quantified in the Settlement Act, and to provide for identified municipal and industrial water needs in the project area.

ADDRESSES: Copies of the FSEIS may be obtained from Mr. Pat Schumacher, Four Corners Division Manager, Bureau of Reclamation, 835 East Second Avenue, Suite 300, Durango, Colorado 81301-5475; telephone: (970) 385-6590. The document is available on CD-ROM or the Internet at http://www.uc.usbr.gov under the Environmental Studies, Summaries & Reports heading.

Copies of the FSEIS are also available for public review and inspection at the following locations:

• Bureau of Reclamation, U.S. Department of the Interior, Room 7455, 18th and C Streets, N.W., Washington, D.C. 20240.

• Bureau of Reclamation, Denver Office Library, Denver Federal Center, Building 67, Room 67, Denver, Colorado 80225.

• Bureau of Reclamation, Upper Colorado Regional Office, 125 South State Street, Room 6107, Salt Lake City, Utah 84138.

• Bureau of Reclamation, Four Corners Division of the Western Colorado Area Office, 835 East Second Avenue, Suite 300, Durango, Colorado 81301-5475.

• Bureau of Reclamation, Western Colorado Area Office, 2764 Compass Drive, Suite 106, Grand Junction, Colorado 81506.

• Local Affairs Department/Division of Local Government, Attention: Charles Unseld, 1313 Sherman Street, Room 521, Denver, Colorado 80203.

• Energy, Minerals and Natural Resources Department, Attention: Jennifer A. Salisbury, Secretary, 2040 South Pacheco Street, Santa Fe, New Mexico 87505.

Libraries

Copies will also be available for public review and inspection at the following public libraries:

Colorado

Colorado State University Library, Ft. Collins

Cortez City Library

Denver City Library

Durango High School Library

Durango Public Library

Ft. Lewis College Library, Durango

University of Northern Colorado Library, Greeley

University of Denver, Penrose Library, Denver

University of Colorado, Norlin Library, Boulder

New Mexico

Albuquerque Public Library

Alturian Public Library, Aztec

Bloomfield City Library

Farmington Public Library

Navajo Community College Library, Shiprock

New Mexico State Library, Santa Fe

New Mexico State University Library, Las Cruces

San Juan College Library, Farmington

University of New Mexico Library, Albuquerque

Zimmerman Library, Albuquerque

FOR FURTHER INFORMATION CONTACT: Mr. Pat Schumacher, Four Corners Division Manager, Bureau of Reclamation, 835 East Second Avenue, Suite 300, Durango, Colorado 81301-5475; telephone (970) 385-6590.

SUPPLEMENTARY INFORMATION: The Draft Supplemental Environmental Impact Statement for the Animas-La Plata Project (DSEIS) was issued on January 14, 2000. Responses to comments received from interested organizations and individuals on the DSEIS are addressed in the FSEIS. The FSEIS evaluates the environmental impacts of ten alternatives for final implementation of the Settlement Act. One of the alternatives analyzed is the Administration Proposal to finalize the Colorado Ute Settlement which includes a down-sized version of the original project. The Administration proposal also includes a non-structural element which allows for the acquisition of additional water supplies to the Ute tribes. The FSEIS identifies a Preferred Alternative, Refined Alternative 4 (a refined version of the Administration Proposal), which achieves the fundamental purpose of implementing the 1988 Settlement Act by securing the Colorado Ute Tribes an assured long-term water supply in satisfaction of their water rights as well as for identified municipal and industrial water needs in the project area.

The FSEIS will be used by decisionmakers in Reclamation and the Department of the Interior. A record of decision can be executed 30 days after publication of release of the FSEIS in the Federal Register. The record of decision will state the action that will be implemented and will discuss all factors leading to the decision.

Dated: July 5, 2000.
Terrence N. Martin,
Acting Director, Office of Environmental Policy and Compliance, Department of the Interior.

[FR Doc. 00-17638 Filed 7-13-00; 8:45 am]

BILLING CODE 4310-MN-P